DEPARTMENT OF THE INTERIOR

National Park Service

Notice of Intent to Repatriate Cultural Items: University of Montana, Missoula, MT

AGENCY: National Park Service, Interior.

ACTION: Notice.

Notice is here given in accordance with the Native American Graves Protection and Repatriation Act (NAGPRA), 25 U.S.C. 3005, of the intent to repatriate cultural items in the possession of the University of Montana, Missoula, MT, that meet the definition of unassociated funerary objects under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

In 1972, human remains representing a minimum of one individual were removed from a site along the upper Rattlesnake Creek in Missoula County, MT. The human remains were described in a Notice of Inventory Completion published in the Federal Register (68 FR 50187-50189, August 20, 2003), and subsequently repatriated to the Confederated Salish & Kootenai Tribes of the Flathead Reservation, Montana. In July 2009, the funerary objects associated with the individual were discovered in the collection. The funerary objects were not curated or accessioned with the human remains, and therefore, were not previously identified. Since the individual is no longer in the possession of the university, the funerary objects are now considered unassociated funerary objects. The 17 unassociated funerary objects are 13 animal rib bones (some fragmentary), 1 bird bone whistle, 1 large chert flake, 1 small unifacial chert tool and 1 drill with a broken tip.

The site is in Rattlesnake Valley and was occupied prehistorically and historically by the Salish and Kootenai tribes. Additionally, a tribal representative has identified Missoula County, MT, as part of the Confederated Salish & Kootenai Tribes traditional occupation area.

Officials of the University of Montana have determined that, pursuant to 25 U.S.C. 3001(3)(B), the 17 objects described above are reasonably believed to have been placed with or near individual human remains at the time of death or later as part of the death rite or ceremony and are believed, by a preponderance of the evidence, to have been removed from a specific burial site of a Native American. Officials of the University of Montana also have determined that, pursuant to 25 U.S.C. 3001(2), there is a relationship of shared group identity that can be reasonably traced between the unassociated funerary objects and the Confederated Salish & Kootenai Tribes of the Flathead Reservation, Montana.

Representatives of any other Indian tribe that believes itself to be culturally affiliated with the unassociated funerary objects should contact John Douglas, Chair and Professor, Department of Anthropology, University of Montana, 32 Campus Dr., Missoula, MT 39812, telephone (406) 243-4246, before September 23, 2010. Repatriation of the unassociated funerary objects to the Confederated Salish & Kootenai Tribes of the Flathead Reservation, Montana, may proceed after that date if no additional claimants come forward.

The University of Montana is responsible for notifying the Confederated Salish & Kootenai Tribes of the Flathead Reservation, Montana, that this notice has been published.

Dated: August 18, 2010.
David Tarler,
Acting Manager, National NAGPRA Program.

[FR Doc. 2010-20942 Filed 8-23-10; 8:45 am]

BILLING CODE 4312-50-S